DEPARTMENT OF COMMERCE

National Oceanic and Atmospheric Administration

RIN 0648-XB072

North Pacific Fishery Management Council; Public Meeting

AGENCY: National Marine Fisheries Service (NMFS), National Oceanic and Atmospheric Administration (NOAA), Commerce.

ACTION: Notice of meetings of the North Pacific Fishery Management Council Individual Fishing Quota (IFQ) Implementation Team.

SUMMARY: The North Pacific Fishery Management Council (Council) IFQ Implementation Team will meet March 26, 2012 in Anchorage, AK.

DATES: The meeting will be held on March 26, 2012, from 6 p.m. to 9 p.m.

ADDRESSES: The meeting will be held at the Anchorage Hilton Hotel, 500 West 3rd Avenue, King Salmon/Illiamna Room, Anchorage, AK.

Council address: North Pacific Fishery Management Council, 605 W. 4th Ave., Suite 306, Anchorage, AK 99501-2252.

FOR FURTHER INFORMATION CONTACT: Jane DiCosimo, Council staff; telephone: (907) 271-2809.

SUPPLEMENTARY INFORMATION: The Team will review the discussion papers on Vessel Monitoring System requirement and a discussion paper on proposed changes to the Halibut and sablefish IFQ Program.

The Agenda posted at http://www.alaskafisheries.noaa.gov/npfmc/.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Gail Bendixen at (907) 271-2809 at least 7 working days prior to the meeting date.

Dated: March 6, 2012.
Tracey L. Thompson,
Acting Director, Office of Sustainable Fisheries, National Marine Fisheries Service.

[FR Doc. 2012-5795 Filed 3-8-12; 8:45 am]

BILLING CODE 3510-22-P